DEPARTMENT OF COMMERCE

Submission for OMB Review; Comment Request

The Department of Commerce will submit to the Office of Management and Budget (OMB) for clearance the following proposal for collection of information under the provisions of the Paperwork Reduction Act (44 U.S.C. Chapter 35).

Agency: International Trade Administration (ITA).

Title: Trade Fair Certification Program.

OMB Control Number: 0625-0130.

Form Number(s): ITA-4100P.

Type of Request: Regular submission (extension/revision of a currently approved information collection).

Burden Hours: 360.

Number of Respondents: 120.

Average Hours per Response: 3.

Needs and Uses: The Trade Fair Certification (TFC) Program provides endorsement and support for private trade show organizers, trade associations, U.S. agents of foreign fair authorities, and other entities to organize and manage a U.S. Pavilion at a foreign trade show. The form is used to apply for certification of their ability to perform this task. The TFC Program uses information from the form to evaluate if both the show and the organizer meet the Department's high standards such as recruiting, delivering show services, attracting small and medium-sized firms, booth pricing, and being an appropriate marketing venue for U.S. firms. Potential exhibitors look to trade fair certification to ensure they are participating in a viable show with a reliable organizer. The form also includes information on where to apply, procedures and commitment by the applicant to abide by the terms set forth for program participation.

The TFC Program proposes to revise the form by adding three questions below with corresponding number, and information on a trade certification price increase.

16. Is the overall show audited by an official or professional trade show authority or an accredited media audit organization? (For instance, in the U.S., this would be an audit firm recognized by the Exhibition and Event Industry Audit Commission.). If yes, please indicate which one(s) or include a copy of the last report.

24. Indicate what Intellectual Property Rights (IPR) protection and/or IPR policies and procedures are available from the show owner/organizer for exhibitors at the show.

25. Provide a copy of the rules/regulations for U.S. exhibitors and a copy of the show owner/organizer rules/regulations for all exhibitors. If you are both the U.S. pavilion organizer and the show owner/organizer, one set of rules/regulations for all exhibitors is sufficient.

26. In April of 2008, the price of Trade Certification was increased from $1,750 to $2,000 to cover the increasing costs associated with Commercial Service support of certified trade events.

The justification for the additional questions is to ensure the U.S. Department of Commerce is providing assistance to shows that position U.S. companies with their plans for international expansion. Seeks clarity on rules regarding the event and ensure IPR issues are addressed. The price adjustment is to cover the increase in delivering the service. These revisions are not expected to increase response time, it is expected that respondents will a

Affected Public: Business or other for-profit organizations.

Frequency: On occasion.

Respondent's Obligation: Required to retain or obtain a benefit.

OMB Desk Officer: Wendy Liberante, Phone (202) 395-3647.

Copies of the above information collection proposal can be obtained by calling or writing Diana Hynek, Departmental Paperwork Clearance Officer, (202) 482-0266, Department of Commerce, Room 6616, 14th and Constitution Avenue NW., Washington, DC 20230 (or via the Internet at dHynek@doc.gov.)

Written comments and recommendations for the proposed information collection should be sent within 30 days of publication of this notice to Wendy Liberante, OMB Desk Officer, FAX number (202) 395-5167 or via the Internet at Wendy_L._Liberante@omb.eop.gov.

Dated: November 22, 2011
Gwellnar Banks,
Management Analyst, Office of the Chief Information Officer.

[FR Doc. 2011-30573 Filed 11-28-11; 8:45 am]

BILLING CODE 3510-FP-P